DEPARTMENT OF STATE

[Public Notice: 11714]

Notice of Renewal of the Advisory Committee on International Law Charter

The Department of State has renewed the charter of the Advisory Committee on International Law. The Committee is composed of former Legal Advisers of the Department of State and up to 30 individuals appointed by the Legal Adviser or a Deputy Legal Adviser. Through the Committee, the Department of State will continue to obtain the views and advice of outstanding members drawn from a cross section of the legal profession. The Committee follows procedures prescribed by the Federal Advisory Committee Act (FACA). Its meetings are open to the public unless a determination is made in accordance with the FACA and 5 U.S.C. 552b(c) that a meeting or portion of a meeting should be closed to the public. Notice of each meeting will be published in the Federal Register at least 15 days prior to the meeting, unless extraordinary circumstances require shorter notice.

FOR FURTHER INFORMATION CONTACT: Alison Welcher, Executive Director, Advisory Committee on International Law, Department of State, at 202-647-1646 or welcherar@state.gov.

Alison R. Welcher,
Attorney-Adviser, Office of the Legal Adviser, Department of State.

[FR Doc. 2022-08208 Filed 4-15-22; 8:45 am]

BILLING CODE 4710-08-P